DEPARTMENT OF DEFENSE

Department of the Navy

Notice of Public Hearing of the Draft Environmental Impact Statement (DEIS) for the West Coast Basing of the MV-22

AGENCY: Department of the Navy, DoD.

ACTION: Notice.

SUMMARY: Pursuant to section (102)(2)(c) of the National Environmental Policy Act (NEPA) of 1969 (NEPA), and regulations implemented by the Council on Environmental Quality (40 CFR Parts 1500-1508), Department of Navy (DoN) NEPA regulations (32 CFR Part 775), and U.S. Marine Corps (USMC) NEPA directives (Marine Corps Order P5090.2A, change 1), DON and USMC have prepared and filed with the U.S. Environmental Protection Agency (EPA) a Draft Environmental Impact Statement (DEIS).

The USMC is initiating the public period and has scheduled three public comment meetings. Federal, state and local agencies and interested parties are encouraged to provide comments in person at any of the public comment meetings or anytime during the public comment period. The USMC and DON will address these comments in the Final Environmental Impact Statement (EIS).

DATES: The DEIS public review period will begin February 15, 2009 and end on March 30, 2009, and public comment meetings will be held from 5 p.m. to 9 p.m. on the dates indicated below, at the following locations:

(1) March 24, 2009, Scripps Miramar Ranch Branch Library, 10301 Scripps Lake Drive, San Diego, CA.

(2) March 25, 2009, Vista Del Mar Middle School 1130 Avienda Talega, San Clemente, CA.

(3) March 26, 2009, Gilla Rid High School, 7151 E 24th St., Yuma, AZ.

ADDRESSES: A copy of the DEIS is available at the project Web site, http://www.mv22eiswest.net, and at the physical locations identified at the end of this notice. Comments on the DEIS can be submitted via the project Web site, or submitted in writing to: Naval Facilities Engineering Command Southwest, Attn: Homebasing EIS Project Manager, 1220 Pacific Highway, San Diego, California 92132-5190. Comments must be postmarked by March 30, 2009 to be considered in this environmental review process.

FOR FURTHER INFORMATION CONTACT: Homebasing EIS Project Manager, Central Integrated Product Team at telephone: 619-532-4742, by fax: 619-532-4160 or write to Naval Facilities Engineering Command Southwest, Attn: Homebasing EIS Project Manager, 1220 Pacific Highway, San Diego, California 92132-5190.

SUPPLEMENTARY INFORMATION:

Proposed Action

The proposed action would base up to ten MV-22 squadrons (120 aircraft) on the West Coast and would replace nine helicopter squadrons (114 aircraft) currently authorized for basing on the West Coast. More specifically, the proposed action includes (1) basing up to eight MV-22 squadrons for employment by the Third Marine Aircraft Wing (3D MAW) to provide medium lift capability to I Marine Expeditionary Force (I MEF); (2) basing up to two 4th MAW MV-22 squadrons to provide a West Coast reserve component medium lift capability; (3) construction and/or renovation of airfield facilities necessary to accommodate and maintain the MV-22 squadrons; and (4) conducting MV-22 readiness and training operations and special exercise operations to attain and maintain proficiency in the operational employment of the MV-22. The nine helicopter squadrons to be replaced are currently authorized for basing at Marine Corps Air Station (MCAS) Miramar, MCAS Camp Pendleton, and Edwards Air Force Base.

Purpose and Need

The purpose of the proposed action is to determine the basing location(s) for MV-22 squadrons that would provide medium lift capability to support I MEF and meet West Coast requirements for reserve component medium lift capability, and provide for efficient training through ready access to ranges, training areas and airspace. The MV-22 is the replacement for the current fleet of less-capable, 1960s-era CH-46 medium lift helicopters. The need for the proposed action is to base the USMC's new medium lift aircraft where it can best support the I MEF and 4th MAW missions, while making use of existing facilities to the greatest extent practicable and preventing impacts to combat capability and mission readiness during the transition to meet current and future operational requirements of the USMC. Replacement of CH-46E helicopters with MV-22 aircraft will modernize the USMC medium lift fleet and improve the operational capabilities of the 3D and 4th MAW squadrons.

The proposed MV-22 squadrons would be co-located at a single installation (full basing) or would be split between a maximum of two aviation facilities. Evaluations were made of the maximum and minimum number of squadron options at each air station (e.g., maximum partial basing of eight squadrons and minimum partial basing of two squadrons). These include the following five alternatives.

• The preferred alternative—partial basing at MCAS Miramar (eight squadrons) and MCAS Camp Pendleton (two squadrons).

• Full basing at MCAS Miramar (ten squadrons).

• Partial basing at MCAS Miramar (eight squadrons) and MCAS Yuma (two squadrons).

• Partial basing at MCAS Miramar (two squadrons) and MCAS Yuma (eight squadrons).

• Partial basing at MCAS Yuma (eight squadrons) and MCAS Camp Pendleton (two squadrons).

Under all basing alternatives, MCAS Miramar would lose four existing squadrons of CH-46Es and MCAS Camp Pendleton would lose three existing squadrons of CH-46Es, along with associated military personnel. Operations at Marine Corps Base (MCB) Camp Pendleton, the Bob Stump Training Range Complex, Marine Corps Air Ground Combat Center (MCAGCC), and various Military Training Routes (MTRs) are included as part of each basing alternative. A sixth alternative, No Action, assumes no aircraft would be replaced, aircraft operations would continue at the current level, and no construction/demolition or personnel changes related to basing the MV-22 aircraft on the West Coast would occur.

Potential impacts were evaluated in the DEIS under all alternatives for the following resources: Airfields and airspace; land use; socioeconomics; community facilities and services; ground traffic and transportation; air quality; noise; infrastructure and utilities; cultural resources; hazardous materials management; topography, geology and soils; water resources; biological resources; aesthetics and visual resources; safety and environmental health; and environmental justice.

The preferred alternative would result in an increase of 48 aircraft and 746 personnel at MCAS Miramar and a reduction of 18 aircraft and 257 personnel at MCAS Camp Pendleton. New support facilities at MCAS Miramar include three new hangar modules, parking apron, four new fueling pits, and five new wash racks. New support facilities at MCAS Camp Pendleton include a new hangar module, modifications to an existing hangar, new wash rack, and new parking apron.

Significant and unavoidable impacts that cannot be mitigated under the preferred alternative include traffic impacts from increased personnel at MCAS Miramar and land use impacts from noise compatibility issues at MCAS Miramar. Potentially significant but mitigable impacts associated with the preferred alternative include seismicity issues associated with construction at both air stations; cultural resources issues at MCAS Camp Pendleton, MCB Camp Pendleton, and the Bob Stump Training Range Complex; and biological resources issues regarding loss of sensitive plant communities, and rare, and federally listed threatened or endangered species from construction at both air stations.

Other alternatives have similar types and levels of impacts, with the most extensive significant and unavoidable impacts occurring from the MCAS Miramar Full Basing Alternative (Alternative 1) related to the loss of a large area supporting vernal pool habitat and associated federally listed species.

Copies of the DEIS can be found on the project Web site, http://www.mv22eiswest.net or at the following locations:

(1) San Diego County Public Library Fallbrook Branch 124 S. Mission Road Fallbrook, CA 92028, telephone: 760-728-2373,

(2) San Diego Public Library Mira Mesa Branch 8405 New Salem Street San Diego, CA 92126, telephone: 858-538-8165,

(3) Yuma County Library Heritage Branch (Main Library) 350 Third Avenue Yuma, AZ 85364 telephone: 928-782-1871.

Dated: February 10, 2009.
A. M. Vallandingham,
Lieutenant Commander, Judge Advocate General's Corps, U.S. Navy, Federal Register Liaison Officer.

[FR Doc. E9-3260 Filed 2-13-09; 8:45 am]

BILLING CODE 3810-FF-P